DEPARTMENT OF ENERGY

Federal Energy Regulatory Commission

Combined Notice of Filings No. 2

January 14, 2010.

Take notice that the Commission has received the following Natural Gas Pipeline Rate and Refund Report filings:

Docket Numbers: RP92-132-065. RP91-203-077.

Applicants: Tennessee Gas Pipeline Company.

Description: Tennessee Gas Pipeline Company submits Thirteenth Revised Sheet No. 407 et al. to FERC Gas Tariff, Fifth Revised Volume No. 1.

Filed Date: 12/31/2009.

Accession Number: 20100106-0207.

Comment Date: 5 p.m. Eastern Time on Tuesday, January 12, 2010.

Docket Numbers: RP10-206-001.

Applicants: CenterPoint Energy Gas Transmission Company.

Description: CenterPoint Energy Gas Transmission Company submits Substitute Original Sheet 739c to FERC Gas Tariff, Sixth Revised Volume 1 to be effective 1/1/10.

Filed Date: 01/06/2010.

Accession Number: 20100107-0202.

Comment Date: 5 p.m. Eastern Time on Tuesday, January 19, 2010.

Docket Numbers: RP10-233-001.

Applicants: Texas Gas Transmission, LLC.

Description: Texas Gas Transmission, LLC submits Substitute Second Revised Sheet 4000 to FERC Gas Tariff, Third Revised Volume 1 to be effective 1/11/10.

Filed Date: 01/06/2010.

Accession Number: 20100107-0203.

Comment Date: 5 p.m. Eastern Time on Tuesday, January 19, 2010.

Docket Numbers: RP09-762-002.

Applicants: El Paso Natural Gas Company.

Description: El Paso Natural Gas Company submits Fifth Revised Sheet 322 et al. to its FERC Gas Tariff, Second Revised Volume 1A.

Filed Date: 01/11/2010.

Accession Number: 20100111-0203.

Comment Date: 5 p.m. Eastern Time on Monday, January 25, 2010.

Docket Numbers: RP10-282-001.

Applicants: Kinder Morgan Interstate Gas Trans. LLC.

Description: Kinder Morgan Interstate Gas Transmission, LLC submits the Firm Transportation Service Agreement with Koch Supply and Trading, LP.

Filed Date: 01/13/2010.

Accession Number: 20100113-0209.

Comment Date: 5 p.m. Eastern Time on Monday, January 25, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-1554 Filed 1-26-10; 8:45 am]

BILLING CODE 6717-01-P